DEPARTMENT OF DEFENSE

Department of the Army

Western Hemisphere Institute for Security Cooperation Board of Visitors; Meeting

AGENCY: Department of the Army, DoD.

ACTION: Notice of open meeting.

SUMMARY: The notice sets forth the schedule and summary agenda for the meeting of the Board of Visitors (BoV) for the Western Hemisphere Institute for Security Cooperation (WHINSEC). Notice of this meeting is required under the Federal Advisory Committee Act (Pub. L. 92-463). This board was chartered on February 1, 202 (and subsequently re-chartered on February 1, 2004) in compliance with the requirements set forth in 10 U.S.C. 2166.

Dates: July 16, 2004.

Time: 8 a.m. to 4 p.m.

Location: Pratt Hall, Building 35, 7011 Morrison Ave., Fort Benning, GA 31905.

Proposed Agenda: The WHINSEC BoV will receive new members and advisors, elect its internal leadership, receive updates on the status of actions taken on past BoV recommendations and an update on new activities and efforts since December 2003; look into any matters it deems important; meet with groups of WHINSEC faculty and students; and prepare for its annual 2004 later in the year. The Board will also schedule its calendar for the remainder of 2004.

FOR FURTHER INFORMATION CONTACT: Ken LaPlante, Executive Liaison, WHINSEC, Army G-3 at (703) 692-7419 or LTC Linda Gould, Deputy DFO and Chief, Latin American Branch, Army G-3 at (703) 692-7419.

SUPPLEMENTARY INFORMATION: The meeting is open to the public. Please note that the Board members will arrive at various times on July 15 and may use available time for individual member reviews of special interest items (yet to be determined) and will convene in plenary session on July 16, 2004. On July 16 the Board will adjourn for lunch between 12 p.m. and 1:30 p.m. The DFO had set aside 3 p.m. to 3:30 p.m. on July 16 for public comments by individuals and organizations. Public comment and presentations will be limited to two minutes each and members of the public desiring to make oral statements or presentations must inform the contact personnel, in writing. Requests must be received before Friday, July 9, 2004. Mail written presentations and requests to register to attend the public sessions to: LTC Gould or Mr. LaPlante at HQDA, DA0-G35-R (Room 3B473), 400 Army Pentagon, Washington, DC 20310. Public seating is limited, and is available on a first come, first served basis.

Dated: June 7, 2004.
John C. Speedy, III,
Designated Federal Officer, WHINSEC BoV.

[FR Doc. 04-13268 Filed 6-10-04; 8:45 am]

BILLING CODE 3710-08-M